DEPARTMENT OF COMMERCE

National Oceanic and Atmospheric Administration

50 CFR Part 648

[Docket No. 141002822-5169-03]

RIN 0648-BE56

Magnuson-Stevens Fishery Conservation and Management Act Provisions; Fisheries of the Northeastern United States; Northeast Groundfish Fishery; Fishing Year 2014; Interim Gulf of Maine Cod Management Measures; Correction

AGENCY: National Marine Fisheries Service (NMFS), National Oceanic and Atmospheric Administration (NOAA), Commerce.

ACTION: Temporary rule, correcting amendment.

SUMMARY: This document makes corrections to the Gulf of Maine cod interim regulations published in the Federal Register on November 13, 2014. This document corrects regulatory text by including the exemption from certain seasonal interim closure areas for vessels fishing for whiting in the Small Mesh Area 1 and 2 Exempted Areas with a raised footrope trawl. These two exempted areas, which overlap with certain seasonal closure areas, were inadvertently overlooked in the interim rule. This action does not make any substantive changes to the interim rule regulations.

DATES: Effective February 26, 2015, until May 12, 2015.

FOR FURTHER INFORMATION CONTACT: William Whitmore, Fishery Policy Analyst, phone: 978-281-9182.

SUPPLEMENTARY INFORMATION:

Background

On November 13, 2014, we published interim management measures (79 FR 67362) to increase protection for Gulf of Maine (GOM) cod in response to a recently updated stock assessment that concluded the stock is severely depleted. The management measures included seasonal interim closure areas where fishing for groundfish is prohibited. The regulations implemented through the GOM cod interim rule allowed vessels fishing with exempted gear or fishing in exempted fisheries to continue to fish within the seasonal interim closure areas; however, the rule mistakenly did not include the Small Mesh Area 1 and 2 Exemption Areas.

An exempted fishery is implemented after it is determined that a specific fishery utilizes a certain gear type, and/or fishes in specific areas or times that result in a groundfish bycatch that is less than 5 percent and doesn't jeopardize fishing mortality objectives. Vessels fishing in the Small Mesh Areas must use raised footrope trawl nets that result in minimal groundfish bycatch. Vessels fishing in these areas may not fish for, possess, or land any groundfish. They are allowed to fish for and possess only whiting, red hake, and a limited number of other species.

Additional information on exempted fisheries can be found online at www.greateratlantic.fisheries.noaa.gov/regs/info.html.

Correction

We recently recognized that the GOM cod interim rule regulations inadvertently omitted two small mesh exemption areas utilized by groundfish vessels. Groundfish vessels are allowed to fish with small mesh nets using raised footrope trawls in the Small Mesh Area 1 and 2 Exempted Areas, as described at 50 CFR 648.80(a)(9). Because these areas were omitted from the regulatory text, groundfish vessels would be unable to fish in the portions of the Small Mesh 1 and 2 Exemption Areas that overlap with the GOM cod seasonal interim closure areas. This correction adds the Small Mesh Area 1 and 2 Exempted Areas to the list of exempted fishery areas that are exempt from the GOM cod seasonal interim closure areas. As a result, vessels can now fish with small mesh nets with raised footrope trawls in the Small Mesh Area 2 Exemption Area in March and April, and, if the interim rule were to be extended another six months, in the Small Mesh Area 1 Exemption Area July 15 through November 15. This correction is consistent with the original intent of the GOM cod interim rule.

Classification

The Assistant Administrator (AA) for Fisheries, NOAA, finds that pursuant to 5 U.S.C. 553(b)(B), there is good cause to waive prior notice and an opportunity for public comment on this action, as notice and comment would be contrary to the public interest. This temporary rule adds the Small Mesh Area 1 and 2 Exempted Areas to the list of exempted fisheries that are exempt from the GOM cod seasonal interim closure areas. These two areas were inadvertently left out of the GOM cod interim action and adding these areas does not substantively change the regulations. Providing notice and comment on these changes is contrary to the public interest because any additional delay would cause economic harm to fishery participants by denying them opportunities to fish in the specified areas, which would have been permitted but for the previous inadvertent omission. Moreover, this action reduces a regulatory restriction and provides fishermen with greater fishing opportunities while maintaining the goals and objectives of the GOM cod interim rule and the groundfish fishery management plan.

The Assistant Administrator also finds good cause under 5 U.S.C. 553(d)(3) to waive the 30-day delay in effectiveness and makes this rule effective immediately upon filing for public inspection. In addition to the reasons stated above, an area within Small Mesh Area 2 will close on March 1, 2015. Vessels fishing with raised footrope trawls would then be prohibited from fishing in that area unnecessarily. Waiving the 30-day delay avoids this unnecessary closure and allows fishery participants to fish in Small Mesh Area 2 without interruption, as was originally intended when the interim management measures were published.

List of Subjects in 50 CFR Part 648

Fisheries, Fishing, Recordkeeping and reporting requirements.

Dated: February 24, 2015.
Samuel D. Rauch III,
Deputy Assistant Administrator for Regulatory Programs, National Marine Fisheries Service.

Therefore, NOAA amends 50 CFR part 648 as follows:

PART 648—FISHERIES OF THE NORTHEASTERN UNITED STATES

1. The authority citation for part 648 continues to read as follows:

Authority: 16 U.S.C. 1801 et seq.

2. Section 648.81 is amended by:

A. Suspending from February 26, 2015, unti May 12, 2015, paragraph (o)(2)(iv), and

B. Temporarily adding from February 26, 2015, until May 12, 2015, paragraph (o)(2)(vi).

The addition reads as follows:

§ 648.81 NE multispecies closed area and measures to protect EFH.

* * * * *

(o) * * *

(2) * * *

(vi) That are fishing in the Raised Footrope Trawl Exempted Whiting Fishery, ass specified in § 648.80(a)(15), or the Small Mesh Area 1 and 2 Exemption Areas as specified in § 648.80(a)(9).

[FR Doc. 2015-04319 Filed 2-26-15; 4:15 pm]

BILLING CODE 3510-22-P